ENVIRONMENTAL PROTECTION AGENCY

[FRL-6952-8]

Extension of Time To Comment on Agency Information Collection Activities: Proposed Collection; Comment Request; Reimbursement to Local Governments for Emergency Responses to Hazardous Substance Releases

AGENCY: Environmental Protection Agency (EPA).

ACTION: Notice; extension of comment period.

SUMMARY: The Environmental Protection Agency (EPA) is announcing an extension of time to comment on the Reimbursement to Local Governments for Emergency Responses to Hazardous Substance Releases Information Collection Request renewal.

DATES: Comments are due by April 30, 2001.

ADDRESSES: Send comments to Lisa Boynton, EPA, 5204G, 1200 Pennsylvania Avenue NW., Washington, DC 20460. Materials relevant to this ICR may be inspected from 9:00 a.m. to 4:00 p.m., Monday through Friday, by visiting the Public Docket, located at 1235 Jefferson-Davis Highway (ground floor), Arlington, Virginia 22202.

FOR FURTHER INFORMATION CONTACT: Lisa Boynton, (703) 603-9052, e-mail: boynton.lisa@epa.gov.

SUPPLEMENTARY INFORMATION: The EPA announces an extension of time to submit comments on the Reimbursement to Local Governments for Emergency Responses to Hazardous Substance Releases Information Collection Request renewal from December 4, 2000 to April 30, 2001. The original notice for comment was published in the Federal Register at 65 FR 69510 (November 17, 2000 ).

Dated: March 6, 2001.
Larry Reed,
Acting Director, Office of Emergency and Remedial Response.

[FR Doc. 01-6709 Filed 3-16-01; 8:45 am]

BILLING CODE 6560-50-P